DEPARTMENT OF TRANSPORTATION

Office of the Secretary

Beautifying Transportation Infrastructure Council; Public Meeting

AGENCY: Office of the Secretary (OST), Department of Transportation (DOT).

ACTION: Notice of public meeting.

SUMMARY: The Office of the Secretary of Transportation (OST) announces the first public meeting of the Beautifying Transportation Infrastructure Council (Council) on Monday, February 2, 2026. This notice announces the date, time, and location of the meeting, which will be open to the public virtually. The purpose of the Council is to advise the Secretary of Transportation on enhancing the aesthetic value of our Nation's transportation systems.

DATES: This meeting will be held on Monday, February 2, 2026, beginning at 1:00 p.m. Eastern Time (EST) and ending at 2:00 p.m. The exact start and end times are subject to change; please monitor https://www.transportation.gov/beautifytransportation/council for the most up-to-date information.

ADDRESSES: The Council will meet in-person at U.S. DOT Headquarters in Washington, DC. The public may join the meeting virtually, with information available on the Council website (https://www.transportation.gov/beautifytransportation/council) in advance of the meeting date. You must register in order to receive the meeting link and any meeting updates. Register here: https://usdot.zoomgov.com/webinar/register/WN_7gP6ZdlGSYeDFFvufdQOAA.

If you need alternative formats or services because of disability, please contact beautifytransportation@dot.gov with your request by Thursday, January 29, 2026.

FOR FURTHER INFORMATION CONTACT: The Council's Designated Federal Officer, Julianne Schwarzer, Office of the Assistant Secretary for Transportation Policy, Office of the Secretary, BeautifyTransportation@dot.gov or 617-999-9667.

SUPPLEMENTARY INFORMATION:

I. Background

The U.S. Secretary of Transportation (Secretary) established the Council as a Federal Advisory Committee in accordance with the Federal Advisory Committee Act (Pub. L. 92-463, 5 U.S.C. Ch. 10) to advise the Secretary of Transportation on enhancing the aesthetic value of our Nation's transportation systems.

The Council provides recommendations on policies, designs, and funding priorities that beautify transportation infrastructure, including highways, bridges, and transit hubs, while maintaining safety and efficiency. The Council identifies best practices, develops aesthetic performance metrics, and advises on projects that enhance public spaces and reflect local character.

II. Agenda

At the meeting, the proposed agenda will cover the Call to Order, Official Statement of the Designated Federal Officer, Meeting Logistics, Opening Remarks, Principles for Beautiful Transportation Infrastructure, and Review of Next Steps. The agenda is subject to change.

III. Public Participation

The meeting will be open to the public through a virtual meeting. Registration for the meeting can be found here: https://usdot.zoomgov.com/webinar/register/WN_7gP6ZdlGSYeDFFvufdQOAA. Members of the public may submit comments to the Council in advance to the individual listed in the FOR FURTHER INFORMATION CONTACT section of this notice no later than Thursday, January 29, 2026.

All advance submissions will be reviewed by the Designated Federal Officer. If approved, advance submissions shall be circulated to the Council members for review prior to the meeting. All advance submissions will become part of the official record of the meeting.

Authority: The Council is a discretionary advisory committee under the authority of the U.S. Department of Transportation and was established in accordance with the provisions of the Federal Advisory Committee Act, as amended, 5 U.S.C. Ch. 10.

Loren A. Smith, Jr.,
Deputy Assistant Secretary for Transportation Policy.

[FR Doc. 2026-01317 Filed 1-22-26; 8:45 am]

BILLING CODE 4910-9X-P